POSTAL REGULATORY COMMISSION

39 CFR Part 3050

[Docket No. RM2011-7; Order No. 664]

Periodic Reporting

AGENCY: Postal Regulatory Commission.

ACTION: Notice of proposed rulemaking; availability of rulemaking petition.

SUMMARY: The Commission is establishing a docket to consider certain temporary waivers from periodic reporting of service performance measurement. Establishing this docket will allow the Commission to consider the Postal Service's proposal and comments from the public.

DATES: Comments are due: February 15, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY HISTORY: On February 3, 2011, the Postal Service filed a request for temporary waivers from periodic reporting of service performance measurement for various market dominant postal services, or components of postal services, pursuant to Commission Order No. 465.¹

¹ United States Postal Service Request for Temporary Waivers from Periodic Reporting of Service Performance Measurement, February 3, 2011 (Request); see also Docket No. RM2009-11, Order Establishing Final Rules Concerning Periodic Reporting of Service Performance Measurements and Customer Satisfaction, May 25, 2010, at 22-24 (Order No. 465).

Order No. 465 established a process for the Postal Service to achieve full compliance with all periodic service performance reporting requirements by the filing date of the FY 2011 Annual Compliance Report. Order No. 465 at 18-24. As part of the process, the Commission directed the Postal Service to seek temporary waivers where it cannot immediately comply with specific reporting requirements. As a condition of granting any waiver, the Commission directed the Postal Service to develop and present implementation plans addressing each reporting requirement for which the Postal Service cannot provide the required information. The “plans at a minimum should provide an explanation of why a reporting requirement cannot be complied with, the steps necessary to come into compliance, and a timeline of events necessary to achieve compliance. Interim milestones shall be included in the plans where applicable such that both the Postal Service and the Commission can evaluate progress being made.” Id. at 23.

In the instant docket, the Postal Service requests certain temporary waivers from periodic reporting (quarterly) of service performance measurements for Standard Mail, Bound Printed Matter Flats, and certain area and district level data for Presort First-Class Mail, and End-to-End Periodicals. Request at 1. The Request includes proposals for interim service performance measurement reporting.

Two related dockets are pending before the Commission. Docket No. RM2011-1 concerns a Postal Service request which seeks temporary waivers for First-Class Mail Flats at the district level, non-retail First-Class Mail Parcels, all categories of Standard Mail, Outside County Periodicals, non-retail Media Mail, Library Mail, Bound Printed Matter Parcels, and Stamp Fulfillment Services.² Docket No. RM2011-4 concerns a Postal Service request for a semi-permanent exception from periodic reporting of service performance measurement for First-Class Mail Flats at the district level or other relief as appropriate.³ Interested persons are encouraged to review the filings presented in both related dockets when considering the instant request for waivers.

² See Docket No. RM2011-1, United States Postal Service Request for Temporary Waivers from Periodic Reporting of Service Performance Measurement, October 1, 2010.

³ See Docket No. RM2011-4, United States Postal Service Request for Semi-Permanent Exception from Periodic Reporting of Service Performance Measurement or, in the Alternative, Petition for Rulemaking Concerning 39 CFR 3055.45(c).

The Commission establishes Docket No. RM2011-7 for consideration of matters related to the proposed temporary waivers from periodic reporting of service performance measurement identified in the Postal Service's Request.

Interested persons may submit comments on whether the Postal Service's Request is consistent with the policies of 39 U.S.C. 3652(a)(2) and with the directions given in Order No. 465. Interested persons also may comment on interim measurement proposals. Comments are due no later than February 15, 2011. The Postal Service's Request can be accessed via the Commission's Web site (http://www.prc.gov).

The Commission appoints Emmett Rand Costich to serve as Public Representative in the captioned proceeding.

It is ordered:

1. The Commission establishes Docket No. RM2011-7 for consideration of matters raised by the Postal Service's Request.

2. Comments by interested persons in this proceeding are due no later than February 15, 2011.

3. Pursuant to 39 U.S.C. 505, Emmett Rand Costich is appointed to serve as the officer of the Commission (Public Representative) to represent the interests of the general public in this proceeding.

4. The Secretary shall arrange for publication of this order in the Federal Register.

By the Commission.
Ruth Ann Abrams,
Acting Secretary.

[FR Doc. 2011-3192 Filed 2-11-11; 8:45 am]

BILLING CODE 7710-FW-P